DEPARTMENT OF TRANSPORTATION

Federal Aviation Administration

14 CFR Part 39

[Docket No. 2002-SW-47-AD; Amendment 39-13062; AD 2003-04-13]

RIN 2120-AA64

Airworthiness Directives; Eurocopter France Model SA341G and SA342J Helicopters

AGENCY: Federal Aviation Administration, DOT.

ACTION: Final rule; request for comments.

SUMMARY: This amendment adopts a new airworthiness directive (AD) for Eurocopter France (Eurocoper) Model SA341G and SA342J helicopters. This action requires modifying an electric hoist (hoist) junction box (junction box). This amendment is prompted by the discovery of an anomaly affecting the resistor that is located in the junction box. The actions specified in this AD are intended to prevent failure of the hoist emergency load jettison switch, resulting in an inability of the pilot to cut the rescue hoist cable in the event of cable entanglement or other emergency and subsequent loss of control of the helicopter.

DATES: Effective March 17, 2003.

The incorporation by reference of certain publications listed in the regulations is approved by the Director of the Federal Register as of March 17, 2003.

Comments for inclusion in the Rules Docket must be received on or before April 29, 2003.

ADDRESSES: Submit comments in triplicate to the Federal Aviation Administration (FAA), Office of the Regional Counsel, Southwest Region, Attention: Rules Docket No. 2002-SW-47-AD, 2601 Meacham Blvd., Room 663, Fort Worth, Texas 76137. You may also send comments electronically to the Rules Docket at the following address: 9-asw-adcomments@faa.gov.

The service information referenced in this AD may be obtained from American Eurocopter Corporation, 2701 Forum Drive, Grand Prairie, Texas 75053-4005, telephone (972) 641-3460, fax (972) 641-3527. This information may be examined at the FAA, Office of the Regional Counsel, Southwest Region, 2601 Meacham Blvd., Room 663, Fort Worth, Texas; or at the Office of the Federal Register, 800 North Capitol Street, NW., suite 700, Washington, DC.

FOR FURTHER INFORMATION CONTACT: Carroll Wright, Aviation Safety Engineer, FAA, Rotorcraft Directorate, Regulations Group, Fort Worth, Texas 76193-0111, telephone (817) 222-5120, fax (817) 222-5961.

SUPPLEMENTARY INFORMATION: The Direction Generale De L'Aviation Civile (DGAC), the airworthiness authority for France, notified the FAA that an unsafe condition may exist on Eurocopter Model SA341G and SA342J helicopters with a 300 lb. hoist manufactured by Breeze. The helicopter is fitted with a hoist junction box, part number (P/N) 341A63-1103-00. The DGAC advises of the discovery of an anomaly affecting the current-limiting resistor located in the junction box, which results in insufficient current intensity and can cause failure of the emergency jettison control squib percussion to operate. The unmodified hoist electric junction box is designed to generate 2 amperes for the hoist cable cut percussion squib. The Breeze 300 lb. hoist requires a minimum of 10 amperes to activate the cable cut percussion squib. This AD will modify the limiting resistor in the hoist electric junction box and result in a percussion squib activation current of 18 amperes.

Eurocopter has issued Alert Telex No. 45.05, dated July 8, 2002, which specifies modifying the control unit of the hoist. The DGAC classified this alert telex as mandatory and issued AD 2002-370-043(A), dated July 24, 2002, to ensure the continued airworthiness of these helicopters in France.

These helicopter models are manufactured in France and are type certificated for operation in the United States under the provisions of 14 CFR 21.29 and the applicable bilateral agreement. Pursuant to the applicable bilateral agreement, the DGAC has kept the FAA informed of the situation described above. The FAA has examined the findings of the DGAC, reviewed all available information, and determined that AD action is necessary for products of these type designs that are certificated for operation in the United States. The DGAC recommended modifying the junction box for helicopters with Breeze or TRW (or Lucas or Air Equipment) hoists installed. However, the unmodified junction box functions properly with the TRW (Lucas or Air Equipment) hoists and the FAA does not propose to modify the junction box for helicopters with TRW hoists installed. Helicopters with the Breeze hoist, P/N BL 16-600, BL 16-600-11 or BL 16-600-12, installed require this junction box modification.

This unsafe condition is likely to exist or develop on other helicopters of the same type designs registered in the United States. Therefore, this AD is being issued to prevent failure of the hoist emergency load jettison switch, resulting in an inability of the pilot to cut the rescue hoist cable in the event of cable entanglement or other emergency and subsequent loss of control of the helicopter. This AD requires modifying the limiting resistor in the junction box. The actions must be accomplished in accordance with the alert telex described previously. The modification is terminating action for the requirements of this AD. The short compliance time involved is required because the previously described critical unsafe condition can adversely affect the controllability of the helicopter. Therefore, the modification is required before the next hoist operation and this AD must be issued immediately.

Since a situation exists that requires the immediate adoption of this regulation, it is found that notice and opportunity for prior public comment hereon are impracticable, and that good cause exists for making this amendment effective in less than 30 days.

The FAA estimates that 2 helicopters will be affected by this AD, that it will take approximately 1 work hour to accomplish the modification, and that the average labor rate is $60 per work hour. Required parts will cost approximately $20 per helicopter. Based on these figures, the total cost impact of the AD on U.S. operators is estimated to be $160.

Comments Invited

Although this action is in the form of a final rule that involves requirements affecting flight safety and, thus, was not preceded by notice and an opportunity for public comment, comments are invited on this rule. Interested persons are invited to comment on this rule by submitting such written data, views, or arguments as they may desire. Communications should identify the Rules Docket number and be submitted in triplicate to the address specified under the caption ADDRESSES. All communications received on or before the closing date for comments will be considered, and this rule may be amended in light of the comments received. Factual information that supports the commenter's ideas and suggestions is extremely helpful in evaluating the effectiveness of the AD action and determining whether additional rulemaking action would be needed.

Comments are specifically invited on the overall regulatory, economic, environmental, and energy aspects of the rule that might suggest a need to modify the rule. All comments submitted will be available in the Rules Docket for examination by interested persons. A report that summarizes each FAA-public contact concerned with the substance of this AD will be filed in the Rules Docket.

Commenters wishing the FAA to acknowledge receipt of their mailed comments submitted in response to this rule must submit a self-addressed, stamped postcard on which the following statement is made: “Comments to Docket No. 2002-SW-47-AD.” The postcard will be date stamped and returned to the commenter.

The regulations adopted herein will not have a substantial direct effect on the States, on the relationship between the national Government and the States, or on the distribution of power and responsibilities among the various levels of government. Therefore, it is determined that this final rule does not have federalism implications under Executive Order 13132.

The FAA has determined that this regulation is an emergency regulation that must be issued immediately to correct an unsafe condition in aircraft, and that it is not a “significant regulatory action” under Executive Order 12866. It has been determined further that this action involves an emergency regulation under DOT Regulatory Policies and Procedures (44 FR 11034, February 26, 1979). If it is determined that this emergency regulation otherwise would be significant under DOT Regulatory Policies and Procedures, a final regulatory evaluation will be prepared and placed in the Rules Docket. A copy of it, if filed, may be obtained from the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding a new airworthiness directive to read as follows:

2003-04-13 Eurocopter France: Amendment 39-13062. Docket No. 2002-SW-47-AD.

Applicability: Model SA341G and SA342J helicopters with electric hoist junction box (junction box), part number (P/N) 341A63-1103-00, installed with the 300 lb. Breeze hoist, P/N BL 16-600, P/N BL 16-600-11, or P/N BL 16-600-12, certificated in any category.

Note 1: This AD applies to each helicopter identified in the preceding applicability provision, regardless of whether it has been otherwise modified, altered, or repaired in the area subject to the requirements of this AD. For helicopters that have been modified, altered, or repaired so that the performance of the requirements of this AD is affected, the owner/operator must request approval for an alternative method of compliance in accordance with paragraph (c) of this AD. The request should include an assessment of the effect of the modification, alteration, or repair on the unsafe condition addressed by this AD; and if the unsafe condition has not been eliminated, the request should include specific proposed actions to address it.

Compliance: Required before the next hoist operation, unless accomplished previously.

To prevent failure of the hoist emergency load jettison switch, resulting in an inability of the pilot to cut the rescue hoist cable in the event of cable entanglement or other emergency and subsequent loss of control of the helicopter, accomplish the following:

(a) Modify the limiting resistor in the electric hoist junction box in accordance with paragraph 2.B. of the Accomplishment Instructions in Eurocopter Alert Telex No. 45.05, dated July 8, 2002.

(b) Modifying the limiting resistor is terminating action for the requirements of this AD.

(c) An alternative method of compliance or adjustment of the compliance time that provides an acceptable level of safety may be used if approved by the Manager, Regulations Group, Rotorcraft Directorate, FAA. Operators shall submit their requests through an FAA Principal Maintenance Inspector, who may concur or comment and then send it to the Manager, Regulations Group.

Note 2: Information concerning the existence of approved alternative methods of compliance with this AD, if any, may be obtained from the Regulations Group.

(d) Special flight permits to allow operation of an unmodified hoist will not be issued.

(e) The modification shall be done in accordance with paragraph 2.B. of the Accomplishment Instructions in Eurocopter Alert Telex No. 45.05, dated July 8, 2002. This incorporation by reference was approved by the Director of the Federal Register in accordance with 5 U.S.C. 552(a) and 1 CFR part 51. Copies may be obtained from American Eurocopter Corporation, 2701 Forum Drive, Grand Prairie, Texas 75053-4005, telephone (972) 641-3460, fax (972) 641-3527. Copies may be inspected at the FAA, Office of the Regional Counsel, Southwest Region, 2601 Meacham Blvd., Room 663, Fort Worth, Texas; or at the Office of the Federal Register, 800 North Capitol Street, NW., Suite 700, Washington, DC.

(f) This amendment becomes effective on March 17, 2003.

Note 3: The subject of this AD is addressed in Direction Generale De L'Aviation Civile (France) AD 2002-370-043(A), dated July 24, 2002.

Issued in Fort Worth, Texas, on February 14, 2003.
David A. Downey,
Manager, Rotorcraft Directorate, Aircraft Certification Service.

[FR Doc. 03-4475 Filed 2-27-03; 8:45 am]

BILLING CODE 4910-13-P